SURFACE TRANSPORTATION BOARD

[Docket No. FD 36026]

CaterParrott Railnet, LLC—Lease and Operation Exemption—Rail Line of Central of Georgia Railroad Company in Lamar and Upson Counties, GA

CaterParrott Railnet, LLC (CPR), a Class III rail carrier, has filed a verified notice of exemption under 49 CFR 1150.41 to lease from Central of Georgia Railroad Company (CGR), a wholly owned subsidiary of Norfolk Southern Railway Company, and to operate 17.35 miles of rail line between milepost B-234.00 at Barnesville, and milepost B-251.35 at Thomaston, in Lamar and Upson Counties, Ga. (the Line),¹ pursuant to a lease agreement dated April 12, 2016.

¹ CGR previously discontinued service over a 3.25-mile segment of the Line between milepost B-248.10 and milepost B-251.35 in Upson County, Ga. Cent. of Ga. R.R. Co.—Discontinuance of Serv. Exemption—in Upson Cty., Ga., AB 290 (Sub-No. 372X) (STB served Nov. 28, 2014). In a letter filed on April 18, 2016, CGR notified the Board that it would reactivate service on the 3.25-mile segment and resume its common carrier obligation on the Line.

CPR certifies that its projected annual revenues as a result of this transaction will not result in CPR's becoming a Class II or Class I rail carrier and that its projected annual revenue do not exceed $5 million.

CPR states that the lease between CPR and CGR does not contain any provisions that prohibit, restrict, or would otherwise limit future interchange of traffic with any third-party carrier.

The transaction may be consummated on or after May 20, 2016, the effective date of the exemption (30 days after the verified notice of exemption was filed).

If the verified notice contains false or misleading information, the exemption is void ab initio. Petitions to revoke the exemption under 49 U.S.C. 10502(d) may be filed at any time. The filing of a petition to revoke will not automatically stay the effectiveness of the exemption. Petitions for stay must be filed no later than May 13, 2016 (at least seven days before the exemption becomes effective).

An original and 10 copies of all pleadings, referring to Docket No. FD 36026, must be filed with the Surface Transportation Board, 395 E Street SW., Washington, DC 20423-0001. In addition, one copy of each pleading must be served on Chris Parrott, CaterParrott Railnet, LLC, 3825 Aubrey Lane, Tifton, GA 31794.

According to CPR, this action is categorically excluded from environmental review under 49 CFR 1105.6(c).

Board decisions and notices are available on our Web site at www.stb.dot.gov.

Decided: May 3, 2016.
By the Board, Rachel D. Campbell, Director, Office of Proceedings.
Tia Delano,
Clearance Clerk.

[FR Doc. 2016-10679 Filed 5-5-16; 8:45 am]

BILLING CODE 4915-01-P